ENVIRONMENTAL PROTECTION AGENCY

[FRL-9946-42-OW]

National Wetland Condition Assessment 2011 Final Report

AGENCY: Environmental Protection Agency.

ACTION: Notice of availability.

SUMMARY: This notice announces the availability of EPA's report on the National Wetland Condition Assessment (NWCA) 2011. The NWCA describes the results of the nationwide probabilistic survey that was conducted in the spring and summer of 2011 by EPA and its state and tribal partners. The NWCA 2011 report includes information on how the survey was implemented, what the findings are on a national and ecoregional scale, and future actions.

FOR FURTHER INFORMATION CONTACT: Gregg Serenbetz, Office of Wetlands, Oceans and Watersheds, Office of Water (4502T), Washington, DC. Phone: 202-566-1253; email: serenbetz.gregg@epa.gov

SUPPLEMENTARY INFORMATION:

I. General Information

The National Wetland Condition Assessment 2011: A Collaborative Survey of the Nation's Wetlands is the first report to use a statistically-valid random design to assess the condition of the nation's wetlands. It is one of a series of National Aquatic Resource Surveys (NARS), a national-scale monitoring program designed to produce statistically-valid assessments that answer critical questions about the condition of waters in the United States.

The key goals of the NWCA are to: (1) Describe the ecological condition of the nation's wetlands and stressors commonly associated with poor condition; (2) collaborate with states and tribes in developing complementary monitoring tools, analytical approaches, and data management technology to aid wetland protection and restoration program, and (3) advance the science of wetland monitoring and assessment to support wetland management needs. Using a statistical survey design, 967 sites were selected at random to represent the condition of wetlands across the lower 48 states. Both tidal and nontidal wetlands were targeted for sampling.

The NWCA finds less than half of wetland area nationally (48%) is in good condition; 32% is in poor condition and the remaining 20% is in fair condition based on assessments of the plant community. Physical disturbances to wetlands and their surrounding habitat such as compacted soil, ditching, or removal of plants, are the most widespread problems across the country. Approximately a quarter of wetland area nationally has high stress levels for surface hardening, vegetation removal, and ditching. The report has undergone public, peer, state/tribal, and EPA review.

A. How can I get copies of the NWCA 2011 report and other related information?

You may view and download the final report from EPA's Web site at: http://www.epa.gov/national-aquatic-resource-surveys/nwca.

Dated: May 8, 2016.
Joel Beauvais,
Deputy Assistant Administrator, Office of Water.

[FR Doc. 2016-11508 Filed 5-13-16; 8:45 am]

BILLING CODE 6560-50-P